SOCIAL SECURITY ADMINISTRATION

Finding Regarding the Social Insurance System of the Federal Republic of Yugoslavia (Formerly Serbia and Montenegro)

AGENCY: Social Security Administration (SSA).

ACTION: Notice of finding regarding the Social Insurance System of the Federal Republic of Yugoslavia (formerly Serbia and Montenegro).

FINDING:Section 202(t)(1) of the Social Security Act (42 U.S.C. 402(t)(1)) prohibits payment of monthly benefits to any individual who is not a United States citizen or national for any month after he or she has been outside the United States for 6 consecutive months, and prior to the first month thereafter for all of which the individual has been in the United States. This prohibition does not apply to such an individual where one of the exceptions described in sections 202(t)(2) through 202(t)(5) of the Social Security Act (42 U.S.C. 402(t)(2) through 402(t)(5)) affects his or her case.

Section 202(t)(2) of the Social Security Act provides that, subject to certain residency requirements of section 202(t)(11), the prohibition against payment shall not apply to any individual who is a citizen of a country which the Commissioner of Social Security finds has in effect a social insurance system which is of general application in such country and which:

(a) Pays periodic benefits, or the actuarial equivalent thereof, on account of old age, retirement, or death; and

(b) Permits individuals who are United States citizens but not citizens of that country and who qualify for such benefits to receive those benefits, or the actuarial equivalent thereof, while outside the foreign country regardless of the duration of the absence.

The Commissioner of Social Security has delegated the authority to make such a finding to the Associate Commissioner for International Programs. Under that authority, the Associate Commissioner for International Programs has approved a finding that the Federal Republic of Yugoslavia (formerly Serbia and Montenegro), as of April 17, 1992, the date that the Federal Republic of Yugoslavia declared their independence as a joint independent state, has a social insurance system of general application which:

(a) Pays periodic benefits, or the actuarial equivalent thereof, on account of old age, retirement, or death; and

(b) Permits United States citizens who are not citizens of the Federal Republic of Yugoslavia (formerly Serbia and Montenegro) and who qualify for the relevant benefits to receive those benefits, or their actuarial equivalent, while outside of the Federal Republic of Yugoslavia, regardless of the duration of the absence of these individuals from the Federal Republic of Yugoslavia.

The Federal Republic of Yugoslavia (formerly Serbia and Montenegro) proclaimed their status as a joint independent state on April 17, 1992. Before that time, it was considered to be part of the former Yugoslavia, which was determined to have a system that met section 202(t)(2) of the Social Security Act as of March 25, 1959. Effective November 2000, following the formation of a new government, the name of “Serbia and Montenegro” was officially changed to “the Federal Republic of Yugoslavia.” The Federal Republic of Yugoslavia is a new state, and is not a successor to the former Yugoslavia.

After the Federal Republic of Yugoslavia adopted the constitution of the former Yugoslavia in 1992, the Law on Basic Pension and Invalidity Insurance was passed. However, it did not become effective until January 1, 1997. Before that time, the social insurance law of the former Yugoslavia was still in operation in the Federal Republic of Yugoslavia.

FOR FURTHER INFORMATION CONTACT: Bob Treadaway, Room 1104, West High Rise Building, P.O. Box 17741, 6401 Security Boulevard, Baltimore, MD 21235, (410) 965-2764.

(Catalog of Federal Domestic Assistance: Program Nos. 96.001 Social Security—Disability Insurance; 96.002 Social Security—Retirement Insurance; 96.004 Social Security—Survivors Insurance)
Dated: July 20, 2001.
Joseph A. Gribbin,
Associate Commissioner for International Programs.

[FR Doc. 01-19577 Filed 8-3-01; 8:45 am]

BILLING CODE 4191-02-P